DEPARTMENT OF TRANSPORTATION

Federal Aviation Administration

14 CFR Part 39

[Docket No. FAA-2025-3436; Project Identifier MCAI-2024-00314-R]

RIN 2120-AA64

Airworthiness Directives; Bell Textron Canada Limited Helicopters

AGENCY: Federal Aviation Administration (FAA), DOT.

ACTION: Notice of proposed rulemaking (NPRM).

SUMMARY: The FAA proposes to adopt a new airworthiness directive (AD) for certain Bell Textron Canada Limited (Bell) Model 407 helicopters. This proposed AD was prompted by a report of a fractured pilot cyclic stick tube and subsequent findings of other pilot cyclic stick tubes with fatigue cracking. This proposed AD would require repetitively inspecting the pilot cyclic stick tube assembly for a crack and, depending on the results, repairing or replacing the pilot cyclic stick tube assembly. The FAA is proposing this AD to address the unsafe condition on these products.

DATES: The FAA must receive comments on this NPRM by January 2, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-3436; or in person at Docket Operations between 9 a.m. and 5 p.m., Monday through Friday, except Federal holidays. The AD docket contains this NPRM, the mandatory continuing airworthiness information (MCAI), any comments received, and other information. The street address for Docket Operations is listed above.

Material Incorporated by Reference:

• For Transport Canada material identified in this proposed AD, contact Transport Canada, Transport Canada National Aircraft Certification, 159 Cleopatra Drive, Nepean, Ontario, K1A 0N5, Canada; phone: (888) 663-3639; email: tc.airworthinessdirectives-consignesdenavigabilite.TC@tc.gc.ca; website: tc.canada.ca/en/aviation. You may find the Transport Canada material on the Transport Canada website at tc.canada.ca/en/aviation.

• You may view this material at the FAA, Office of the Regional Counsel, Southwest Region, 10101 Hillwood Parkway, Room 6N-321, Fort Worth, TX 76177. For information on the availability of this material at the FAA, call (817) 222-5110.

FOR FURTHER INFORMATION CONTACT: Alexis Whitaker, Aviation Safety Engineer, FAA, 1600 Stewart Avenue, Suite 410, Westbury, NY 11590; phone: (516) 228-7309; email: alexis.j.whitaker@faa.gov.

SUPPLEMENTARY INFORMATION:

Comments Invited

The FAA invites you to send any written relevant data, views, or arguments about this proposal. Send your comments using a method listed under the ADDRESSES section. Include “Docket No. FAA-2025-3436; Project Identifier MCAI-2024-00314-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Alexis Whitaker, Aviation Safety Engineer, FAA, 1600 Stewart Avenue, Suite 410, Westbury, NY 11590. Any commentary that the FAA receives which is not specifically designated as CBI will be placed in the public docket for this rulemaking.

Background

Transport Canada, which is the aviation authority for Canada, has issued Transport Canada AD CF-2024-18, dated May 29, 2024 (Transport Canada AD CF-2024-18) (also referred to as the MCAI), to correct an unsafe condition on Bell Model 407 helicopters, serial numbers 53000 through 53900, 53911 through 53999, 54000 through 54166, 54300 through 54800, 54805 through 54999, 56300 through 56305, and 56311 through 56315, installed with a pilot cyclic stick tube assembly part number (P/N) 206-001-342-101 or 206-001-342-101FM. The MCAI states that Bell received a report that a pilot cyclic stick tube assembly having P/N 206-001-342-101 fractured at the lower end of the tube near the upper slotted area where it is held in place in the pivot assembly. Examination of the fractured pilot cyclic stick tube and subsequent findings of other cracked pilot cyclic stick tubes revealed fatigue cracking. Further investigation identified the root cause of the pilot cyclic stick tube cracking as the application of excessive force to the cyclic stick during the freedom of movement of the controls and cyclic centering light operation check as part of the interior and prestart check, which resulted in elevated stress at the slotted area and was aggravated by the high stress concentration design feature of the upper slotted area.

This condition, if not detected and corrected, could lead to an in-flight failure of the pilot cyclic stick tube and consequent loss of control of the helicopter.

You may examine the MCAI in the AD docket at regulations.gov under Docket No. FAA-2025-3436.

Material Incorporated by Reference Under 1 CFR Part 51

The FAA reviewed Transport Canada AD CF-2024-18, which specifies procedures for revising the applicable Bell 407 rotorcraft flight manual (RFM) Normal Procedures section to limit the allowable freedom of movement during interior and prestart checks for certain serial-numbered helicopters (Group 1 helicopters). Transport Canada AD CF-2024-18 also specifies procedures for inspecting the pilot cyclic stick tube assembly for cracks and replacing or repairing and reidentifying any cracked pilot cyclic stick tube assembly for certain serial-numbered helicopters (Group 2 helicopters). If, as a result of an inspection, a pilot cyclic stick tube assembly is repaired rather than replaced, Transport Canada AD CF-2024-18 further specifies procedures for repetitive inspections of the repaired pilot cyclic stick tube assembly and replacement within 24 months after the repair.

This material is reasonably available because the interested parties have access to it through their normal course of business or by the means identified in the ADDRESSES section.

FAA's Determination

These products have been approved by the civil aviation authority (CAA) of another country and are approved for operation in the United States. Pursuant to the FAA's bilateral agreement with this State of Design Authority, that authority has notified the FAA of the unsafe condition described in the MCAI referenced above. The FAA is issuing this NPRM after determining that the unsafe condition described previously is likely to exist or develop on other products of the same type design.

Explanation of Required Compliance Information

In the FAA's ongoing efforts to improve the efficiency of the AD process, the FAA developed a process to use some CAA ADs as the primary source of information for compliance with requirements for corresponding FAA ADs. The FAA has been coordinating this process with manufacturers and CAAs. As a result, the FAA proposes to incorporate Transport Canada AD CF-2024-18 by reference in the FAA final rule. This proposed AD would, therefore, require compliance with Transport Canada AD CF-2024-18 in its entirety through that incorporation, except for any differences identified as exceptions in the regulatory text of this proposed AD. Material referenced in Transport Canada AD CF-2024-18 for compliance will be available at regulations.gov under Docket No. FAA-2025-3436 after the FAA final rule is published.

Proposed AD Requirements in This NPRM

This proposed AD would require accomplishing the actions specified in Transport Canada AD CF-2024-18, described previously, as incorporated by reference, except for any differences identified as exceptions in the regulatory text of this AD. See “Differences Between this Proposed AD and the MCAI” for a discussion of the general differences included in this proposed AD.

Differences Between This Proposed AD and the MCAI

The MCAI only applies to helicopter serial numbers 53000 through 53900, 53911 through 53999, 54000 through 54166, 54300 through 54800, 54805 through 54999, 56300 through 56305, and 56311 through 56315, whereas this proposed AD would apply to all serial numbered Model 407 helicopters with cyclic stick tube assembly part number (P/N) 206-001-342-101 or P/N 206-001-342-101FM installed.

The MCAI specifies procedures for revising the applicable Bell 407 RFM Normal Procedures section for certain serial-numbered helicopters to limit the allowable freedom of movement during interior and prestart checks, whereas this proposed AD does not because the full sweep for freedom of movement is necessary to clear icing and detect any jamming or binding during the pre-start check.

This proposed AD would also add a repetitive inspection for pilot cyclic stick tube assemblies that have accumulated 3,600 or more hours time-in-service, at intervals not to exceed every 300 hours time-in-service or 6 months, whichever occurs first. This is from a determination that a pilot cyclic control stick could experience high loading during hydraulic-off training and other emergency procedure situations. This inspection is not part of the MCAI.

Interim Action

The FAA considers that this proposed AD would be an interim action. If final action is later identified, the FAA might consider further rulemaking.

Costs of Compliance

The FAA estimates that this AD, if adopted as proposed, would affect 944 helicopters of U.S. registry.

The FAA estimates the following costs to comply with this proposed AD:

Estimated Costs
Action | Labor cost | Parts cost | Cost per product | Cost on U.S. operators
Inspect pilot cyclic stick tube assembly | Up to 4 work-hours × $85 per hour = $340 | $0 | $340 | Up to $320,960.

The FAA estimates the following costs to do any necessary repairs that would be required based on the results of the proposed inspection. The agency has no way of determining the number of helicopters that might need these repairs:

On-Condition Costs
Action | Labor Cost | Parts Cost | Cost per product
Repair pilot cyclic stick tube assembly | 6 work-hours × $85 per hour = $510 | $0 | $510
Repetitively inspect pilot cyclic stick tube assembly | 2 work-hours (per inspection) × $85 per hour = $170 | 0 | 170
Replace pilot cyclic stick tube assembly | 2 work-hours × $85 per hour = $170 | 1,544 | 1,714

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bell Textron Canada Limited: Docket No. FAA-2025-3436; Project Identifier MCAI-2024-00314-R.

(a) Comments Due Date

The FAA must receive comments on this airworthiness directive (AD) by January 2, 2026.

(b) Affected ADs

None.

(c) Applicability

This AD applies to Bell Textron Canada Limited Model 407 helicopters, certificated in any category, with a pilot cyclic stick tube assembly part number (P/N) 206-001-342-101 or P/N 206-001-342-101FM installed.

(d) Subject

Joint Aircraft System Component (JASC) Code 6710, Main Rotor Control.

(e) Unsafe Condition

This AD was prompted by a report of a fractured pilot cyclic stick tube and subsequent findings of other pilot cyclic stick tubes with fatigue cracking. The FAA is issuing this AD to detect and correct a crack in the pilot cyclic stick tube which, if not addressed, could lead to an in-flight failure of the pilot cyclic stick tube and consequent loss of control of the helicopter.

(f) Compliance

Comply with this AD within the compliance times specified, unless already done.

(g) Required Actions

(1) Except as specified in paragraphs (h) and (i) of this AD: Comply with all required actions and compliance times specified in, and in accordance with, Transport Canada AD CF-2024-18, dated May 29, 2024 (Transport Canada AD CF-2024-18).

(2) For a pilot cyclic stick tube assembly that has accumulated 3,600 or more hours time-in-service if, after complying with paragraph (g)(1) no cracks are identified, thereafter, at intervals not to exceed 300 hours time-in-service or 6 months, whichever occurs first, perform a detailed inspection of the pilot cyclic stick tube assembly in accordance with Part II paragraph A. of Transport Canada AD CF-2024-18.

(h) Exceptions to Transport Canada AD CF-2024-18

(1) Where Transport Canada AD CF-2024-18 refers to its effective date, this AD requires using the effective date of this AD.

(2) Where Transport Canada AD CF-2024-18 requires compliance in terms of air time, this AD requires using hours time-in-service.

(3) This AD does not adopt Part I, Rotorcraft Flight Manual (RFM) Revision—Applicable to Group 1 Helicopters, of Transport Canada AD CF-2024-18.

(4) Where Transport Canada AD CF-2024-18 states “Part II—Inspection and Replacement or Repair of Cyclic Stick Tube Assembly—Applicable to Group 2 Helicopters”, this AD requires replacing that text with “Part II—Inspection and Replacement or Repair of Cyclic Stick Tube Assembly—All Helicopters.”

(i) No Reporting Requirement

Although the material referenced in Transport Canada AD CF-2024-18 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Alexis Whitaker, Aviation Safety Engineer, FAA, 1600 Stewart Avenue, Suite 410, Westbury, NY 11590; phone: (516) 228-7309; email: alexis.j.whitaker@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) Transport Canada AD CF-2024-18, dated May 29, 2024.

(ii) [Reserved]

(3) For Transport Canada material identified in this AD, contact Transport Canada, Transport Canada National Aircraft Certification, 159 Cleopatra Drive, Nepean, Ontario, K1A 0N5, Canada; phone: (888) 663-3639; email: tc.airworthinessdirectives-consignesdenavigabilite.TC@tc.gc.ca; website: tc.canada.ca/en/aviation. You may find the Transport Canada material on the Transport Canada website at tc.canada.ca/en/aviation.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on October 17, 2025.
Christopher R. Parker,
Acting Deputy Director, Compliance & Airworthiness Division, Aircraft Certification Service.

[FR Doc. 2025-20090 Filed 11-17-25; 8:45 am]

BILLING CODE 4910-13-P